DEPARTMENT OF COMMERCE

International Trade Administration

[A-570-904]

Certain Activated Carbon from the People's Republic of China: Amended Final Results of Antidumping Duty Administrative Review

AGENCY: Import Administration, International Trade Administration, Department of Commerce.

EFFECTIVE DATE: December 17, 2009.

FOR FURTHER INFORMATION CONTACT: Robert Palmer, AD/CVD Operations, Office 9, Import Administration, International Trade Administration, U.S. Department of Commerce, 14th Street and Constitution Avenue, NW, Washington, DC 20230; telephone: (202) 482-9068.

SUPPLEMENTARY INFORMATION:

ADMENDMENT TO THE FINAL RESULTS:

In accordance with sections 751(h) and 777(i)(1) of the Tariff Act of 1930, as amended, (“Act”), on November 10, 2009, the Department of Commerce (“Department”) published¹ the final results of the administrative review of the antidumping duty order on certain activated carbon from the People's Republic of China (“PRC”) covering the period October 11, 2006, through March 31, 2008. See First Administrative Review of Certain Activated Carbon from the People's Republic of China: Final Results of Antidumping Duty Administrative Review, 74 FR 57995 (November 10, 2009) (“Final Results”).

¹ The Department publicly announced the final results on November 3, 2009.

On November 12, 2009, Petitioner Norit Americas, voluntary respondent Ningxia Guanghua Activated Carbon Co., Ltd. (“Cherishmet”),² mandatory respondent Jacobi,³ importer Albemarle,⁴ and separate rate company Hebei Foreign Trade & Advertising Corp. (“Hebei Foreign”) filed timely ministerial allegations pursuant to 19 CFR 351.224(c)(1) that the Department made various ministerial errors in the Final Results and requested, pursuant to 19 CFR 351.224, that the Department correct the alleged ministerial errors in the Final Results and the “Administrative Review of Certain Activated Carbon from the People's Republic of China: Issues and Decisions Memorandum for the Final Results,” dated November 10, 2009 (“Decision Memo”). On November 17, 2009, Petitioners⁵ filed timely rebuttal comments with respect to certain ministerial errors alleged by Cherishmet and Hebei Foreign. No other party in this proceeding submitted ministerial error comments or rebuttals on the Department's Final Results.

² Consisting of Ningxia Guanghua Cherishmet Activated Carbon Co., Ltd. (“GHC”), Beijing Pacific Activated Carbon Products Co., Ltd. (“Beijing Pacific”), and Cherishmet Inc.

³ Consisting of Jacobi Carbons AB, Tianjin Jacobi Iternational Trading Co., Ltd., and Jacobi Carbons, Inc.

⁴ Consisting of Albemarle Sorbent Technologies Corp. and Albemarle Corporation.

⁵ Consisting of Calgon Carbon Corporation and Norit Americas.

A ministerial error is defined as “an error in addition, subtraction, or other arithmetic function, clerical error resulting from inaccurate copying, duplication, or the like, and any other type of unintentional error which the {Secretary} considers ministerial.” See section 751(h) of the Act; see also 19 CFR 351.224(f).

After analyzing all interested party comments and rebuttals, we have determined, in accordance with section 751(h) of the Act and 19 CFR 351.224(e), that we made certain ministerial errors in the Final Results. With regard to Jacobi, Calgon Carbon (Tianjin) Co., Ltd. (“CCT”), and Cherishmet, we transposed digits in the surrogate value for bituminous coal used in valuing coking coal. With regard to Cherishmet, the Department made ministerial errors pertaining to the calculation of international freight and copying of surrogate values. For a detailed discussion of these ministerial errors, as well as the Department's analysis of these errors and other allegations raised, see Memorandum to James C. Doyle, Director, Office 9, through Catherine Bertrand, Program Manager, Office 9, from Robert Palmer, Case Analyst, Office 9: Certain Activated Carbon From the People's Republic of China: Allegation of Ministerial Errors in the Final Results of the First Administrative Review, (December 3, 2009) (“Ministerial Error Memo”).

Additionally, in the Final Results, we determined that several companies qualified for a separate rate. See Final Results, 74 FR at 57998. The separate rate was based on the calculated margins for CCT and Jacobi, the two mandatory respondents in this review. The margins for CCT and Jacobi changed following the correction of the ministerial errors and subsequent revisions made to the Final Results. Accordingly, the Department revised the calculated all others rate for the companies that qualified for a separate rate. We note that the errors did not affect the PRC-wide entity rate, and thus that rate will not be revised. Additionally, the margin for Cherishmet, the voluntary respondent, changed following the revisions made to the Final Results.

Therefore, in accordance with section 751(h) of the Act, we are amending the Final Results in the antidumping duty administrative review of certain activated carbon from the PRC.

After correcting these ministerial errors, the final weight-averaged dumping margins results are as follows:

Certain Activated Carbon from the People's Republic of China
Manufacturer/Exporter | Weighted Average Margin (Percent)
Calgon Carbon (Tianjin) Co., Ltd. | 14.51 %
Jacobi Carbons AB⁶ | 18.19 %
Ningxia Guanghua Cherishmet Activated Carbon Co., Ltd.⁷ | 16.84 %
Datong Municipal Yunguang Activated Carbon Co., Ltd. | 16.35 %
Ningxia Huahui Activated Carbon Co., Ltd. | 16.35 %
Ningxia Lingzhou Foreign Trade Co., Ltd. | 16.35 %
Tangshan Solid Carbon Co., Ltd. | 16.35 %
Tianjin Maijin Industries Co., Ltd. | 16.35 %
PRC-Wide Rate⁸ | 228.11 %
⁶ Consisting of Jacobi Carbons AB, Tianjin Jacobi International Trading Co., Ltd. and Jacobi Carbons, Inc.
⁷ Ningxia Guanghua Cherishment Activated Carbon Co., Ltd. and the following companies have been determined to be a single entity: Beijing Pacific Activated Carbon Products Co., Ltd., Ningxia Guanghua Activated Carbon Company, and Company A. Thus, the calculated margin applies to the single entity.
⁸ The PRC-Wide entity includes Hebei Foreign Trade Advertisement Company, Ningxia Mineral & Chemical Limited, Jilin Bright Future Chemicals Company, Ltd. and its affiliate, Jilin Province Bright Future Industry and Commerce Co., Ltd.

Assessment Rate

The Department will determine, and U.S. Customs and Border Protection (“CBP”) shall assess, antidumping duties on all appropriate entries based on the amended final results. For details on the assessment of antidumping duties on all appropriate entries, see Final Results. The Department intends to issue appropriate assessment instructions directly to CBP 15 days after the date of publication of the amended final results of the administrative review.

Cash Deposit Requirements

The following deposit rates will be effective retroactively on any entries made on or after November 10, 2009, the date of publication of the Final Results, for all shipments of certain activated carbon from the PRC entered, or withdrawn from warehouse, for consumption on or after the publication date, as provided by section 751(a)(2)(C) of the Act: (1) For the exporters listed above, the cash deposit rate will be established in these amended final results of review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 228.11 percent; and (4) for all non-PRC exporters of the subject merchandise which have not received their own rate, the cash deposit rate will be at the rate applicable to the PRC exporters that supplied that non-PRC exporter. The deposit requirements, when imposed, shall remain in effect until further notice.

Notification of Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

We are issuing and publishing these results and notice in accordance with sections 751(a)(1), 751(h) and 777(i)(1) of the Act.

Dated: December 10, 2009.
Carole A. Showers,
Acting Deputy Assistant Secretary for Import Administration.

[FR Doc. E9-30052 Filed 12-16-09; 8:45 am]

BILLING CODE 3510-DS-S